COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add a product and services to the Procurement List that will be furnished by nonprofit agencies employing persons who are blind or have other severe disabilities and to delete a service previously provided by such agency.

DATES: Comments Must Be Received On or Before: 8/9/2012.

ADDRESSES: Committee for Purchase From People Who Are Blind or Severely Disabled, Jefferson Plaza 2, Suite 10800, 1421 Jefferson Davis Highway, Arlington, Virginia, 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 8501-8506) in connection with the product and services proposed for addition to the Procurement List.

Comments on this certification are invited. Commenters should identify the statement(s) underlying the certification on which they are providing additional information.

End of Certification

The following product and services are proposed for addition to Procurement List for production by the nonprofit agencies listed:

Product

NSN: 8140-00-NSH-0014—Tube, Cardboard, Grenade, 155 mm Projectile

NPA: SVRC Industries, Inc., Saginaw, MI

Contracting Activity: Dept of the Army, W4MM USA Joint Munitions CMD, Rock Island, IL

Coverage: C-List for 100% of the requirement of the Crane Army Ammunition Activity, as aggregated by the USA Joint Munitions Command, Army Contracting Command—Rock Island, Rock Island, IL.

Services

Service Type/Location: Contact Center Services, Defense Manpower Data Center, Defense Human Resource Center, Alexandria, VA (CONUS).

Contracting Activity: Defense Human Resource Center, Alexandria, VA

NPAs: (Only one of the listed Nonprofit Agencies will be designated by the Commission to perform.)

Project HIRED, San Jose, CA.

ReadyOne Industries, Inc., El Paso, TX.

Peckham, Inc., Lansing, MI.

InspiriTech, Inc., Philadelphia, PA.

ServiceSource, Inc., Alexandria, VA.

Lakeview Center, Inc., Pensacola, FL.

Service Type/Location: Operations Support Services, U.S. Coast Guard Yard, Curtis Bay, 2401 Hawkins Point Road, Baltimore, MD.

NPA: DePaul Industries, Portland, OR.

Contracting Activity: Dept of Homeland Security, U.S. Coast Guard, SFLC Procurement Branch 3, Baltimore, MD.

Service Type/Location: Hospital Housekeeping Services, Winn Army Community Hospital, 1061 Harmon Avenue, Fort Stewart, GA.

NPA: Professional Contract Services, Inc., Austin, TX

Contracting Activity: Dept of the Army, W40M Southeast RGNL CONTRG OFC, Fort Gordon, GA.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide the service to the Government.

3. There are no known regulatory alternatives which would accomplish the objectives of the Javits-Wagner-O'Day Act (41 USC 8501-8506) in connection with the service proposed for deletion from the Procurement List.

End of Certification

The following service is proposed for deletion from the Procurement List:

Service

Service Type/Location: Janitorial/Custodial, Redden U.S. Federal Courthouse: Fleet Management Center, 310 West 6th Street, Medford, OR.

NPA: Pathway Enterprises, Inc., Ashland, OR.

Contracting Activity: General Services Administration, Public Buildings Service, Auburn, WA.

Barry S. Lineback,
Director, Business Operations.

[FR Doc. 2012-16701 Filed 7-6-12; 8:45 am]

BILLING CODE 6353-01-P